DEPARTMENT OF TRANSPORTATION

Federal Aviation Administration

14 CFR Part 97

[Docket No. 31441; Amdt. No. 4020]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective August 8, 2022. The compliance date for each SIAP, associated Takeoff Minimums, and ODP is specified in the amendatory provisions.

The incorporation by reference of certain publications listed in the regulations is approved by the Director of the Federal Register as of August 8, 2022.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Information Services, 6500 South MacArthur Blvd., Oklahoma City, OK 73169 or,

4. The National Archives and Records Administration (NARA).

For information on the availability of this material at NARA, email fr.inspection@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends 14 CFR part 97 by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for Part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on July 22, 2022.
Thomas J. Nichols,
Aviation Safety, Flight Standards Service, Manager, Standards Section, Flight Procedures & Airspace Group, Flight Technologies & Procedures Division.

Adoption of the Amendment

Accordingly, pursuant to the authority delegated to me, Title 14, CFR part 97, (is amended by amending Standard Instrument Approach Procedures and Takeoff Minimums and ODPs, effective at 0901 UTC on the dates specified, as follows:

PART 97—STANDARD INSTRUMENT APPROACH PROCEDURES

1. The authority citation for Part 97 continues to read as follows:

Authority: 49 U.S.C. 106(f), 106(g), 40103, 40106, 40113, 40114, 40120, 44502, 44514, 44701, 44719, 44721-44722.

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

2. Part 97 is amended to read as follows:

AIRAC date | State | City | Airport | FDC No. | FDC date | Subject
8-Sep-22 | SD | Madison | Madison Muni | 2/0006 | 7/12/22 | RNAV (GPS) RWY 33, Orig-B.
8-Sep-22 | SD | Madison | Madison Muni | 2/0007 | 7/12/22 | RNAV (GPS) RWY 15, Orig-B.
8-Sep-22 | OH | Willoughby | Lake County Exec | 2/0062 | 7/12/22 | RNAV (GPS) RWY 23, Orig-C.
8-Sep-22 | OH | Willoughby | Lake County Exec | 2/0064 | 7/12/22 | RNAV (GPS) RWY 28, Orig-B.
8-Sep-22 | OH | Willoughby | Lake County Exec | 2/0066 | 7/12/22 | RNAV (GPS) RWY 5, Orig-B.
8-Sep-22 | PW | Babelthuap Island | Babelthuap/Koror | 2/0070 | 7/15/22 | RNAV (GPS) RWY 27, Orig-B.
8-Sep-22 | PW | Babelthuap Island | Babelthuap/Koror | 2/0073 | 7/15/22 | NDB RWY 9, Orig-B.
8-Sep-22 | AR | Magnolia | Ralph C Weiser Fld | 2/0078 | 7/13/22 | RNAV (GPS) RWY 36, Amdt 1B.
8-Sep-22 | AR | Magnolia | Ralph C Weiser Fld | 2/0079 | 7/13/22 | RNAV (GPS) RWY 18, Orig-B.
8-Sep-22 | PW | Babelthuap Island | Babelthuap/Koror | 2/0091 | 7/15/22 | RNAV (GPS) RWY 9, Orig-B.
8-Sep-22 | IA | Le Mars | Le Mars Muni | 2/0942 | 6/21/22 | RNAV (GPS) RWY 36, Amdt 1C.
8-Sep-22 | PA | Punxsutawney | Punxsutawney Muni | 2/0971 | 4/21/22 | RNAV (GPS) RWY 24, Orig-C.
8-Sep-22 | NM | Deming | Deming Muni | 2/1538 | 7/14/22 | RNAV (GPS) RWY 8, Orig-B.
8-Sep-22 | NM | Deming | Deming Muni | 2/1541 | 7/14/22 | RNAV (GPS) RWY 4, Amdt 1B.
8-Sep-22 | NM | Deming | Deming Muni | 2/1551 | 7/14/22 | RNAV (GPS) RWY 22, Orig-B.
8-Sep-22 | NM | Deming | Deming Muni | 2/1555 | 7/14/22 | RNAV (GPS)-A, Orig.
8-Sep-22 | FL | St Petersburg-Clearwater | St Pete-Clearwater Intl | 2/1579 | 7/15/22 | VOR RWY 4, Amdt 1B.
8-Sep-22 | IN | Greensburg | Greensburg Muni | 2/1707 | 4/22/22 | RNAV (GPS) RWY 36, Orig-C.
8-Sep-22 | IN | Greensburg | Greensburg Muni | 2/1708 | 4/22/22 | VOR-A, Amdt 2E.
8-Sep-22 | HI | Hana | Hana | 2/2401 | 6/28/22 | RNAV (GPS) RWY 26, Amdt 1.
8-Sep-22 | AL | Anniston | Anniston Rgnl | 2/2734 | 7/14/22 | ILS Y OR LOC Y RWY 5, Orig.
8-Sep-22 | TN | Fayetteville | Fayetteville Muni | 2/2762 | 7/15/22 | VOR/DME RWY 2, Orig-F.
8-Sep-22 | AL | Anniston | Anniston Rgnl | 2/2780 | 7/14/22 | ILS Z OR LOC Z RWY 5, Amdt 4.
8-Sep-22 | SC | Florence | Florence Rgnl | 2/3075 | 7/15/22 | RNAV (GPS) RWY 27, Orig-D.
8-Sep-22 | OH | Akron | Akron Fulton Intl | 2/3306 | 4/5/22 | RNAV (GPS) RWY 25, Orig-C.
8-Sep-22 | OH | Akron | Akron Fulton Intl | 2/3307 | 4/5/22 | NDB RWY 25, Amdt 15C.
8-Sep-22 | OH | Akron | Akron Fulton Intl | 2/3308 | 4/5/22 | LOC RWY 25, Amdt 14B.
8-Sep-22 | OH | Youngstown/Warren | Youngstown/Warren Rgnl | 2/3397 | 7/15/22 | VOR -A, Orig-B.
8-Sep-22 | CA | Napa | Napa County | 2/3507 | 5/25/22 | RNAV (GPS) Z RWY 1L, Amdt 2.
8-Sep-22 | GA | Jasper | Pickens County | 2/3726 | 7/15/22 | RNAV (GPS) RWY 16, Amdt 1B.
8-Sep-22 | GA | Jasper | Pickens County | 2/3738 | 7/15/22 | RNAV (GPS) RWY 34, Orig.
8-Sep-22 | NY | Watertown | Watertown Intl | 2/3924 | 5/24/22 | VOR RWY 7, Amdt 14A.
8-Sep-22 | IA | Des Moines | Des Moines Intl | 2/4423 | 4/28/22 | ILS OR LOC RWY 31, Amdt 24.
8-Sep-22 | IA | Des Moines | Des Moines Intl | 2/4424 | 4/28/22 | RNAV (GPS) RWY 31, Amdt 2.
8-Sep-22 | ME | Oxford | Oxford County Rgnl | 2/4556 | 7/5/22 | RNAV (GPS) RWY 15, Orig-C.
8-Sep-22 | ME | Oxford | Oxford County Rgnl | 2/4558 | 7/5/22 | RNAV (GPS) RWY 33, Orig-D.
8-Sep-22 | GA | Cordele | Crisp County-Cordele | 2/4996 | 6/14/22 | LOC RWY 10, Amdt 1.
8-Sep-22 | GA | Cordele | Crisp County-Cordele | 2/4998 | 6/14/22 | RNAV (GPS) RWY 6, Amdt 1A.
8-Sep-22 | GA | Cordele | Crisp County-Cordele | 2/4999 | 6/14/22 | RNAV (GPS) RWY 10, Amdt 1A.
8-Sep-22 | GA | Cordele | Crisp County-Cordele | 2/5000 | 6/14/22 | RNAV (GPS) RWY 24, Amdt 1A.
8-Sep-22 | GA | Cordele | Crisp County-Cordele | 2/5002 | 6/14/22 | RNAV (GPS) RWY 28, Amdt 1A.
8-Sep-22 | WY | Rock Springs | Southwest Wyoming Rgnl | 2/5013 | 7/15/22 | VOR/DME RWY 27, Amdt 2B.
8-Sep-22 | PA | Wellsboro | Grand Canyon Rgnl | 2/5024 | 5/23/22 | Takeoff Minimums and Obstacle DP, Amdt 3A.
8-Sep-22 | ID | Burley | Burley Muni | 2/5029 | 4/19/22 | RNAV (GPS) RWY 20, Orig-D.
8-Sep-22 | AK | Unalaska | Unalaska | 2/5040 | 4/19/22 | NDB-A, Amdt 3.
8-Sep-22 | IL | Chicago | Chicago O'Hare Intl | 2/5175 | 5/18/22 | ILS OR LOC RWY 4R, ILS RWY 4R (SA CAT I & II), Amdt 8A.
8-Sep-22 | CO | Holyoke | Holyoke | 2/5984 | 6/28/22 | RNAV (GPS) RWY 14, Orig-F.
8-Sep-22 | HI | Honolulu | Daniel K Inouye Intl | 2/6151 | 6/28/22 | ILS Z RWY 4R, Amdt 2.
8-Sep-22 | HI | Honolulu | Daniel K Inouye Intl | 2/6152 | 6/28/22 | ILS Y RWY 4R, Amdt 2.
8-Sep-22 | MS | Columbia | Columbia/Marion County | 2/6323 | 6/13/22 | RNAV (GPS) RWY 5, Orig-A.
8-Sep-22 | NE | Neligh | Antelope County | 2/6334 | 6/10/22 | RNAV (GPS) RWY 19, Orig-A.
8-Sep-22 | MD | Baltimore | Baltimore/Washington Intl Thurgood Marshall | 2/6337 | 6/10/22 | RNAV (GPS) Y RWY 28, Amdt 2C.
8-Sep-22 | MD | Baltimore | Baltimore/Washington Intl Thurgood Marshall | 2/6338 | 6/10/22 | RNAV (GPS) Y RWY 10, Amdt 3C.
8-Sep-22 | MD | Baltimore | Baltimore/Washington Intl Thurgood Marshall | 2/6339 | 6/10/22 | RNAV (RNP) Z RWY 10, Amdt 2C.
8-Sep-22 | IL | Chicago/Prospect Heights/Wheeling | Chicago Exec | 2/6401 | 6/10/22 | ILS OR LOC RWY 16, Amdt 3.
8-Sep-22 | IL | Chicago/Prospect Heights/Wheeling | Chicago Exec | 2/6406 | 6/10/22 | RNAV (GPS) RWY 16, Amdt 2.
8-Sep-22 | IL | Chicago/Prospect Heights/Wheeling | Chicago Exec | 2/6407 | 6/10/22 | VOR RWY 16, Orig-G.
8-Sep-22 | VT | Bennington | William H Morse State | 2/6567 | 7/5/22 | RNAV (GPS) RWY 13, Orig-E.
8-Sep-22 | KS | Paola | Miami County | 2/6626 | 6/10/22 | Takeoff Minimums and Obstacle DP, Orig.
8-Sep-22 | KS | Paola | Miami County | 2/6637 | 6/10/22 | RNAV (GPS) RWY 3, Amdt 1A.
8-Sep-22 | KS | Paola | Miami County | 2/6657 | 6/10/22 | RNAV (GPS) RWY 21, Amdt 1A.
8-Sep-22 | MS | Batesville | Panola County | 2/6922 | 7/6/22 | Takeoff Minimums and Obstacle DP, Amdt 1.
8-Sep-22 | KS | Syracuse | Syracuse-Hamilton County Muni | 2/6928 | 7/15/22 | RNAV (GPS) RWY 18, Orig.
8-Sep-22 | KS | Syracuse | Syracuse-Hamilton County Muni | 2/6929 | 7/15/22 | RNAV (GPS) RWY 36, Orig-A.
8-Sep-22 | NJ | Wildwood | Cape May County | 2/6938 | 5/23/22 | RNAV (GPS) RWY 28, Orig-A.
8-Sep-22 | NJ | West Milford | Greenwood Lake | 2/7060 | 7/6/22 | RNAV (GPS) RWY 24, Orig-C.
8-Sep-22 | NJ | West Milford | Greenwood Lake | 2/7062 | 7/6/22 | RNAV (GPS) RWY 6, Amdt 1B.
8-Sep-22 | KS | Hutchinson | Hutchinson Rgnl | 2/7920 | 7/7/22 | RNAV (GPS) RWY 35, Orig-A.
8-Sep-22 | KS | Hutchinson | Hutchinson Rgnl | 2/7921 | 7/7/22 | RNAV (GPS) RWY 4, Amdt 1A.
8-Sep-22 | KS | Hutchinson | Hutchinson Rgnl | 2/7924 | 7/7/22 | RNAV (GPS) RWY 13, Amdt 1.
8-Sep-22 | KS | Concordia | Blosser Muni | 2/8104 | 5/16/22 | RNAV (GPS) RWY 18, Orig.
8-Sep-22 | KY | Hopkinsville | Hopkinsville-Christian County | 2/8135 | 6/2/22 | RNAV (GPS) RWY 26, Amdt 2.
8-Sep-22 | NY | Rochester | Frederick Douglass/Greater Rochester Intl | 2/8171 | 7/8/22 | RNAV (GPS) RWY 10, Amdt 1B.
8-Sep-22 | NJ | Cross Keys | Cross Keys | 2/8232 | 5/23/22 | VOR OR GPS RWY 9, Amdt 6A.
8-Sep-22 | MD | Baltimore | Baltimore/Washington Intl Thurgood Marshall | 2/8312 | 5/23/22 | RNAV (GPS) Y RWY 33L, Amdt 4A.
8-Sep-22 | MD | Baltimore | Baltimore/Washington Intl Thurgood Marshall | 2/8313 | 5/23/22 | RNAV (RNP) Z RWY 33L, Amdt 3A.
8-Sep-22 | MD | Baltimore | Baltimore/Washington Intl Thurgood Marshall | 2/8314 | 5/23/22 | ILS OR LOC RWY 33L, Amdt 12A.
8-Sep-22 | MD | Baltimore | Baltimore/Washington Intl Thurgood Marshall | 2/8315 | 5/23/22 | ILS OR LOC RWY 15R, Amdt 16.
8-Sep-22 | WI | Osceola | L O Simenstad Muni | 2/8392 | 4/18/22 | RNAV (GPS) RWY 10, Orig-A.
8-Sep-22 | WI | Osceola | L O Simenstad Muni | 2/8393 | 4/18/22 | RNAV (GPS) RWY 28, Amdt 1A.
8-Sep-22 | ME | Waterville | Waterville Robert Lafleur | 2/8516 | 6/23/22 | ILS OR LOC/DME RWY 5, Amdt 4C.
8-Sep-22 | MA | Hyannis | Cape Cod Gateway | 2/8622 | 7/15/22 | ILS OR LOC RWY 24, Amdt 19.
8-Sep-22 | HI | Honolulu | Daniel K Inouye Intl | 2/8642 | 7/15/22 | RNAV (GPS) Y RWY 8L, Amdt 3A.
8-Sep-22 | HI | Honolulu | Daniel K Inouye Intl | 2/8647 | 7/15/22 | RNAV (GPS) RWY 4L, Orig-B.
8-Sep-22 | AZ | Phoenix | Phoenix Sky Harbor Intl | 2/8836 | 7/15/22 | RNAV (RNP) Z RWY 8, Orig-B.
8-Sep-22 | AZ | Phoenix | Phoenix Sky Harbor Intl | 2/8838 | 7/15/22 | RNAV (RNP) Z RWY 7L, Orig-C.
8-Sep-22 | AZ | Phoenix | Phoenix Sky Harbor Intl | 2/8840 | 7/15/22 | RNAV (RNP) Z RWY 7R, Orig-C.
8-Sep-22 | TX | Panhandle | Panhandle-Carson County | 2/8858 | 7/8/22 | RNAV (GPS) RWY 35, Orig-B.
8-Sep-22 | NE | Chadron | Chadron Muni | 2/8942 | 5/11/22 | ILS OR LOC RWY 3, Amdt 2D.
8-Sep-22 | NE | Chadron | Chadron Muni | 2/8943 | 5/11/22 | RNAV (GPS) RWY 3, Amdt 1C.
8-Sep-22 | NE | Chadron | Chadron Muni | 2/8947 | 5/11/22 | RNAV (GPS) RWY 21, Amdt 2C.
8-Sep-22 | ME | Sanford | Sanford Seacoast Rgnl | 2/8970 | 5/23/22 | VOR RWY 25, Amdt 14C.
8-Sep-22 | TX | Fort Hood/Killeen | Robert Gray AAF | 2/8990 | 5/16/22 | ILS OR LOC RWY 15, Amdt 7.
8-Sep-22 | TX | Fort Hood/Killeen | Robert Gray AAF | 2/8991 | 5/16/22 | RNAV (GPS) RWY 15, Amdt 2.
8-Sep-22 | TN | Pulaski | Abernathy Fld | 2/9163 | 7/8/22 | RNAV (GPS) RWY 16, Amdt 2C.
8-Sep-22 | TN | Pulaski | Abernathy Fld | 2/9164 | 7/8/22 | RNAV (GPS) RWY 34, Amdt 2A.
8-Sep-22 | MI | Romeo | Romeo State | 2/9250 | 7/11/22 | RNAV (GPS) RWY 36, Amdt 1D.
8-Sep-22 | MI | Romeo | Romeo State | 2/9251 | 7/11/22 | RNAV (GPS) RWY 18, Amdt 1C.
8-Sep-22 | SC | Chester | Chester Catawba Rgnl | 2/9678 | 5/23/22 | RNAV (GPS) RWY 17, Amdt 1A.
8-Sep-22 | MS | Natchez | Hardy-Anders Fld/Natchez-Adams County | 2/9953 | 7/14/22 | VOR RWY 18, Amdt 11.
8-Sep-22 | IA | Boone | Boone Muni | 2/9964 | 3/28/22 | Takeoff Minimums and Obstacle DP, Amdt 6.
8-Sep-22 | TN | Lafayette | Lafayette Muni | 2/9995 | 7/15/22 | RNAV (GPS) RWY 1, Orig.
8-Sep-22 | TN | Lafayette | Lafayette Muni | 2/9996 | 7/15/22 | RNAV (GPS) RWY 19, Amdt 1.

[FR Doc. 2022-16707 Filed 8-5-22; 8:45 am]

BILLING CODE 4910-13-P